DEPARTMENT OF STATE

[Public Notice: 12730]

60-Day Notice of Proposed Information Collection: J-1 Visa Waiver Recommendation Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 14, 2025.

ADDRESSES: You may submit comments by any of the following methods:

Web: Persons with access to the internet may comment on this notice by going to www.Regulations.gov. You can search for the document by entering “Docket Number: DOS-2025-0007” in the Search field. Then click the “Comment Now” button and complete the comment form.

Email: PRA_BurdenComments@state.gov.

Regular Mail: Send written comments to: Senior Regulatory Coordinator, Visa Services, Department of State, 600 19th St. NW, Washington, DC 20006.

You must include the DS form number (if applicable), information collection title, and the OMB control number in any correspondence.

SUPPLEMENTARY INFORMATION:

Title of Information Collection: J-1 Visa Waiver Recommendation Application.

OMB Control Number: 1405-0135.

Type of Request: Revision of a Currently Approved Collection.

Originating Office: Bureau of Consular Affairs, Visa Office.

Form Number: DS-3035.

Respondents: J-1 visa holders applying for a waiver of the two-year foreign residence requirement.

Estimated Number of Respondents: 14,150.

Estimated Number of Responses: 14,150.

Average Time per Response: 1 hour.

Total Estimated Burden Time: 14,150 hours.

Frequency: Once per Application.

Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The J-1 Waiver Recommendation Application, DS-3035, is used to record the information required by 22 CFR 41.63 for a waiver request filed with the Secretary of State. The information requested on the form is limited to that which is necessary to enable the Waiver Review Division, Visa Services, Bureau of Consular Affairs, of the Department of State to act on the request. Applicants provide biographic data and details regarding their periods of stay on J-1 visas in the United States.

Methodology

Applicants will complete and submit the DS-3035 electronically at the J Visa Waiver Online portal.

Stuart R. Wilson,
Deputy Assistant Secretary, Bureau of Consular Affairs, Department of State.

[FR Doc. 2025-08426 Filed 5-13-25; 8:45 am]

BILLING CODE 4710-06-P